DEPARTMENT OF ENERGY

Federal Energy Regulatory Commission

[Docket Nos. EL08-88-000; ER08-1178-000]

California Independent System Operator Corporation; Supplemental Notice of Technical Conference

October 28, 2008.

On October 21, 2008, the Commission issued a notice of a staff technical conference in the above-captioned proceedings to further explore the justness and reasonableness of the California Independent System Operator Corporation's (CAISO) Exceptional Dispatch mechanism and proposed mitigation plan. The technical conference will be held on November 6, 2008, from 9 a.m. to 5 p.m., and November 7, 2008 from 9 a.m. to 12 p.m. (Eastern Time) at the Federal Energy Regulatory Commission, 888 First Street, NE., Washington, DC 20426. The room location has been changed from the Commission Meeting Room to Hearing Room 1. The Commission hereby provides the following additional information and instruction regarding the conference.

The technical conference will focus on the compensation provided to non-Resource Adequacy resources that receive Exceptional Dispatch instructions and the constraints, which are not fully modeled, that may result in a more frequent than originally expected use of the Exceptional Dispatch mechanism. This conference is not intended to address broader issues concerning the overall Market Redesign and Technology Upgrade (MRTU) implementation. Specifically, Commission staff is interested in obtaining information related to the following questions and concerns:

1. Compensation for non-Resource Adequacy resources under Exceptional Dispatch in light of the October 16, 2008 order in this docket including consideration of:

• How such compensation compares to compensation for non-Resource Adequacy resources committed under other backstop capacity mechanisms, e.g., ICPM, TCPM and RCST;

• The Commission's proposed pricing remedy including its proposed means to avoid the potential for “double payment” of certain resources;

• Whether mitigation is appropriate and, if so, under what circumstances and at what level; and

• How should partial non-resource adequacy resources and self-scheduled resources that are exceptionally dispatched be compensated.

2. Reliability requirements that the CAISO describes as “transitory” in nature.¹

¹ CAISO's June 27, 2008 Amendment to Revise Exceptional Dispatch Provisions of the MRTU Tariff, Docket No. ER08-1178-000, Transmittal Letter at 21-22.

3. Why the full network cannot be modeled, as well as issues related to known constraints (e.g., Path 26, San Francisco Bay Area/Delta Dispatch), and the costs, benefits, and practicality of addressing these reliability requirements with Exceptional Dispatch.

4. The anticipated frequency and trend of Exceptional Dispatch instructions, especially for non-Resource Adequacy resources, as well as all additional scenarios that may require Exceptional Dispatch instructions that were not specifically referenced in the CAISO's original proposal in ER08-1178-000, including Forbidden Operating Regions.

Staff expects the CAISO to prepare a brief presentation (approximately 15 minutes) to address each question. Following the presentation, staff will have the opportunity to ask follow-up questions and participants will then have the opportunity to ask questions and offer brief comments. Staff asks that if a coalition of participants has common questions or perspectives to present, a single spokesperson be designated to speak for the group in order to efficiently address the relevant issues and minimize repetition of issues already discussed.

The technical conference will be open for the public to attend and advance registration is not required. Although staff encourages all interested parties to attend in person, the conference will be accessible via telephone on a listen-only basis. For information regarding telephone access to the conference, please e-mail sarah.crawford@ferc.gov no later than 5 p.m. (Eastern Time) on Monday, November 3, 2008 and specify whether you will be dialing into to the conference on one or both days. You will then receive a confirmation e-mail containing the dial-in number and password. Staff requests that, to the extent possible, individuals calling from the same location share a single telephone line.

All interested persons may file written comments following the technical conference on or before November 24, 2008. Reply comments will be due on or before December 2, 2008.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact: Sarah McKinley, 202.502.8368, sarah.mckinley@ferc.gov, for logistical issues, and Sarah Crawford, 202.502.8241, sarah.crawford@ferc.gov, or Saeed Farrokhpay, 916.294.0322, saeed.farrokhpay@ferc.gov, for other concerns.

Kimberly D. Bose,
Secretary.

[FR Doc. E8-26191 Filed 11-3-08; 8:45 am]

BILLING CODE 6717-01-P